DEPARTMENT OF TRANSPORTATION

Maritime Administration

[Docket No. DOT-MARAD-2023-0085]

Request for Comments on the Renewal of a Previously Approved Information Collection: Capital Construction Fund and Exhibits

AGENCY: Maritime Administration, DOT.

ACTION: 30-Day Federal Register notice.

SUMMARY: The Maritime Administration (MARAD) invites public comments on our intention to request the Office of Management and Budget (OMB) approval to renew an information collection in accordance with the Paperwork Reduction Act of 1995. The information collected in the proposed collection OMB 2133-0027 (Capital Construction Fund and Exhibits) is necessary for MARAD to determine an applicant's eligibility to enter a Capital Construction Fund (CCF) Agreement, and their compliance with the requirements of this program. This collection is being revised to include additional respondents, responses, and burden hours, due to the recent approval of the Defense Authorization Act of 2023 expanding the current pool of eligible CCF program participants. We are required to publish this notice in the Federal Register by the Paperwork Reduction Act of 1995.

ADDRESSES: Written comments and recommendations for the proposed information collections should be sent within 30 days of publication of this notice to www.reginfo.gov/public/do/PRAMain. Find this particular information collection by selecting “Currently under 30-day Review—Open for Public Comments” or by using the search function.

FOR FURTHER INFORMATION CONTACT: Daniel Ladd, (202) 366-1859, Office of Financial Approvals, Maritime Administration, 1200 New Jersey Avenue SE, Washington, DC 20590, Email: daniel.ladd@dot.gov.

SUPPLEMENTARY INFORMATION: A 60-day Federal Register notice soliciting comments on the following information collection was published on February 13, 2023 (88 FR 9322).

Title: Capital Construction Fund and Exhibits.

OMB Control Number: 2133-0027.

Type of Request: Renewal of a previously approved information collection.

Abstract: This information collection consists of an application for a Capital Construction Fund (CCF) agreement under 46 U.S.C. chapter 535 and annual submissions of appropriate schedules and exhibits. The Capital Construction Fund is a tax-deferred ship construction fund that was created to assist owners and operators of U.S.-flag vessels in accumulating the large amount of capital necessary for the modernization and expansion of the U.S. merchant marine. The program encourages construction, reconstruction, or acquisition of vessels through the deferment of Federal income taxes on certain deposits of money or other property placed into a CCF.

Respondents: U.S. citizens who own or lease one or more eligible vessels and who have or desire to establish a program to provide for the acquisition, construction, or reconstruction of a qualified vessel.

Affected Public: Individuals and businesses.

Estimated Number of Respondents: 243.

Estimated Number of Responses: 243.

Annual Estimated Total Annual Burden Hours: 3,281.

Frequency of Response: Annually.

(Authority: The Paperwork Reduction Act of 1995; 44 U.S.C. chapter 35, as amended; and 49 CFR 1.49.)

* * * * *

By Order of the Maritime Administrator.
T. Mitchell Hudson, Jr.,
Secretary, Maritime Administration.

[FR Doc. 2023-08095 Filed 4-17-23; 8:45 am]

BILLING CODE 4910-81-P